SECURITIES AND EXCHANGE COMMISSION

Sunshine Act Meeting

Federal Register Citation of Previous Announcement: [66 FR 14423, March 12, 2001]

STATUS: Closed meeting.

PLACE: 450 Fifth Street, NW., Washington, DC.

DATE PREVIOUSLY ANNOUNCED: March 7, 2001.

CHANGE IN THE MEETING: Cancellation of Meeting.

The closed meeting scheduled for Wednesday, March 14, 2001 at 2 p.m. has been cancelled.

Dated: March 12, 2001.
Margaret H. McFarland,
Deputy Secretary.

[FR Doc. 01-6557 Filed 3-13-01; 11:45 am]

BILLING CODE 8010-01-M